ENVIRONMENTAL PROTECTION AGENCY

[EPA-HQ-OPP-2007-0937;FRL-8400-7]

Para-dichlorobenzene; Issuance of Revised Reregistration Eligibility Decision

AGENCY: Environmental Protection Agency (EPA).

ACTION: Notice.

SUMMARY: This notice announces the availability of EPA's Revised Reregistration Eligibility Decision (RED) for the pesticide para-dichlorobenzene. The Agency's risk assessments and other related documents also are available in the Para-dichlorobenzene Docket. Para-dichlorobenzene is an insecticide; the majority of its pesticidal use is as a moth repellant to protect garments from insect damage and in and around bird cages for the control of lice and ticks. EPA has reviewed para-dichlorobenzene through the public participation process that the Agency uses to involve the public in developing pesticide reregistration and tolerance reassessment decisions. Through these programs, EPA is ensuring that all pesticides meet current health and safety standards. A 60-day public comment period was conducted with the publication of the para-dichlorobenzene RED in December 2007. The comments received primarily concerned the episodic ingestion risk estimates. The Agency, in response, revisited the acute oral endpoint selection and agreed that there were no effects attributable to a single dose, and revised the human health risk assessment and the RED accordingly.

FOR FURTHER INFORMATION CONTACT: Molly Clayton, Special Review and Reregistration Division (7508P), Office of Pesticide Programs, Environmental Protection Agency, 1200 Pennsylvania Ave., NW., Washington, DC 20460-0001; telephone number: (703) 603-0522; fax number: (703) 308-7070; e-mail address: clayton.molly@epa.gov.

SUPPLEMENTARY INFORMATION:

I. General Information

A. Does this Action Apply to Me?

This action is directed to the public in general, and may be of interest to a wide range of stakeholders including environmental, human health, and agricultural advocates, the chemical industry, pesticide users, and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0937. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

Under section 4 of the Federal Insecticide, Fungicide, and Rodenticide Act (FIFRA), EPA is reevaluating existing pesticides to ensure that they meet current scientific and regulatory standards. EPA completed a RED for the pesticide, para-dichorobenzene, under section 4(g)(2)(A) of FIFRA. Para-dichlorobenzene is an insecticide registered for use on indoor use sites only. It is used as a moth and beetle repellant in products which are applied to use sites such as closets and storage containers, and to repel lice and mites from bird cages. It is also used in empty bee supers (stored indoors), to repel wax moths. When formulated into varpal rope, it is used in attics to repel snakes, mice, rats, squirrels, and bats. EPA has determined that the database to support reregistration is substantially complete and that products containing para-dichlorobenzene are eligible for reregistration, provided the risks are mitigated in the manner described in the revised RED. Upon submission of any required product-specific data under section 4(g)(2)(B) of FIFRA and any necessary changes to the registration and labeling (either to address concerns identified in the RED or as a result of product-specific data), EPA will make a final reregistration decision under section 4(g)(2)(C) of FIFRA for products containing para-dichlorobenzene.

The RED document for para-dichlorobenzene was signed on September 28, 2007. In accordance with the Agency's public participation process, a public comment period for the RED was conducted. This comment period opened December 12, 2007, and closed February 11, 2008. The comments received primarily concerned the episodic ingestion risk estimates. The Agency, in response, re-evaluated the acute oral endpoint selection and agreed that there were no effects attributable to a single dose, and revised the human health risk assessment and the RED accordingly. The revisions made to para-dichlorobenzene RED are as follows: The acute oral endpoint and the risk estimate for episodic ingestion of mothballs were removed, as were the mitigation measures relating to episodic ingestion risk; the acute dermal toxicity category was changed from III to IV to correct a typographical error; and Table 6, the Summary of Labeling Changes, was revised to remove the requirement for special packaging of mothballs, and the “keep out of reach of children” language was modified to be consistent with other chemicals with similar warning statements.

EPA is applying the principles of public participation to all pesticides undergoing reregistration and tolerance reassessment. The Agency's Pesticide Tolerance Reassessment and Reregistration; Public Participation Process, published in the Federal Register on May 14, 2004 (69 FR 26819) (FRL-7357-9), explains that in conducting these programs, EPA is tailoring its public participation process to be commensurate with the level of risk, extent of use, complexity of issues, and degree of public concern associated with each pesticide. Due to its uses, risks, and other factors, para-dichlorobenzene was reviewed through an expedited single phase RED process. Through this process, EPA worked extensively with stakeholders and the public to reach the regulatory decisions for para-dichlorobenzene.

The reregistration program is being conducted under congressionally mandated time frames, and EPA recognizes the need both to make timely decisions and to involve the public. The Agency revised the para-dichlorobenzene RED to address comments received during the public comment period that accompanied the initial RED publication. Therefore, the Agency is issuing the revised para-dichlorobenzne RED without a comment period.

B. What is the Agency's Authority for Taking this Action?

Section 4(g)(2) of FIFRA, as amended, directs that, after submission of all data concerning a pesticide active ingredient, “the Administrator shall determine whether pesticides containing such active ingredient are eligible for reregistration,” before calling in product-specific data on individual end-use products and either reregistering products or taking other “appropriate regulatory action.”

List of Subjects

Environmental protection, Pesticides and pests.

Dated: February 10, 2009.
Richard P. Keigwin, Jr.,
Director, Special Review and Reregistration Division, Office of Pesticide Programs.

[FR Doc. E9-5241 Filed 3-10-09; 8:45 a.m.]

BILLING CODE 6560-50-S